DEPARTMENT OF HOUSING AND URBAN DEVELOPMENT

[Docket No. FR-5118-N-03]

Notice of Proposed Information Collection: Comment Request; Disaster Recovery Grant Reporting System

AGENCY: Office of Community Planning and Development, HUD.

ACTION: Notice.

SUMMARY: The proposed information collection requirement described below will be submitted to the Office of Management and Budget (OMB) for review, as required by the Paperwork Reduction Act. The Department is soliciting public comments on the subject proposal.

DATES: Comments Due Date: September 7, 2007.

ADDRESSES: Interested persons are invited to submit comments regarding this proposal. Comments should refer to the proposal by name and/or OMB Control Number and should be sent to: Lillian L. Deitzer, Departmental Reports Management Officer, QDAM, Department of Housing and Urban Development, 451 Seventh Street, SW., Room 4176, Washington, DC 20410; telephone: 202-708-2374 (this is not a toll-free number) or e-mail Ms. Deitzer at Lillian_L._Deitzer@HUD.gov for a copy of the proposed form and other available information.

FOR FURTHER INFORMATION CONTACT: Mark Mitchell, Deputy Director, Disaster Recovery and Special Issues Division, Office of Community Planning and Development, U.S. Department of Housing and Urban Development, 451 7th Street, SW., Washington, DC 20410; telephone number: (202) 708-3587, ext. 3363 (this is not a toll-free number).

SUPPLEMENTARY INFORMATION: The Department will submit the proposed information collection to OMB for review, as required by the Paperwork Reduction Act of 1995 (44 U.S.C. Chapter 35, as amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Disaster Recovery Grant Reporting System.

OMB Control Number, if applicable: 2506-0165.

Description of the need for the information and proposed use: HUD needs to collect information with the Disaster Recovery Grant Reporting System to comply with quarterly Congressional reporting requirements with respect to the use of Community Development Block Grant (CDBG) funds awarded under several appropriations for disaster recovery assistance and for other related program management purposes. Use of this system for reporting purposes is mandatory. Once submitted to HUD, information is public.

Agency form numbers, if applicable: NA.

Members of Affected Public: State, Local or Tribal government.

Estimation of the total number of hours needed to prepare the information collection including number of respondents, frequency of response, and hours of response:

Frequency of Submission: On occasion.

| Number of respondents | Annual responses | × | Hours per response | = | Burden hours
Reporting burden | 44 | 4 |  | 32 |  | 5,632
| 9 | 4 |  | 90 |  | 3,240

Total Estimated Burden Hours: 8,872.

Status of the proposed information collection: Extension of a currently approved collection.

Authority: section 3506 of the Paperwork Reduction Act of 1995, 44 U.S.C. Chapter 35, as amended.

Dated: July 3, 2007.
Nelson R. Bregón,
General Deputy Assistant Secretary.

[FR Doc. E7-13258 Filed 7-6-07; 8:45 am]

BILLING CODE 4210-67-P